CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed revisions to the applications entitled: AmeriCorps*VISTA Concept Paper and AmeriCorps*VISTA Project Application. Copies of the proposed information collection requests may be obtained by contacting the office listed below in the ADDRESSES section of this notice.

DATES: Written comments on this notice must be submitted to the office listed in the ADDRESSES section by September 14, 2004.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

ADDRESSES: You may submit written input to the Corporation by any of the following methods:

(1) Electronically through the Corporation's e-mail address system to Alison Fritz at vista@americorps.org.

(2) By fax to (202) 565-2789, Attention: Ms. Alison Fritz.

(3) By mail sent to: Corporation for National and Community Service, AmeriCorps*VISTA, 9th Floor, Attn: Ms. Alison Fritz, 1201 New York Avenue, NW., Washington, DC 20525.

(4) By hand delivery or by courier to the Corporation's mailroom at Room 6010 at the mail address given in paragraph (3) above, between 9 a.m. and 4 p.m. Monday through Friday, except Federal holidays.

FOR FURTHER INFORMATION CONTACT: Alison Fritz at (202) 606-5000, ext. 233, by e-mail at vista@americorps.org.

SUPPLEMENTARY INFORMATION:

I. Background

AmeriCorps*VISTA requires all applicant organizations to submit a Concept Paper and if approved, a Project Application including a budget when applying for AmeriCorps*VISTA resources.

II. Current Action

The Corporation seeks public comment on the forms, the instructions for the forms, and the instructions for the narrative portion of these application instructions.

Type of Review: Revision of a currently approved collection.

Agency: Corporation for National and Community Service.

Titles: AmeriCorps*VISTA Concept Paper and AmeriCorps*VISTA Project Application.

OMB Number: 3045-0038.

Agency Numbers: CNS1421a (concept paper) and CNS1421b (project application).

Affected Public: Eligible applicants for funding with the Corporation.

Total Respondents: 1700 for concept paper and 1500 for project application.

Frequency: Once for concept paper and annually for project application.

Average Time per Response: 1.5 hours for concept paper and 4 hours for project application.

Estimated Total Burden Hours: 8550 total (2550 hours for concept paper and 6000 hours for project application).

Total Burden Cost (Capital/Startup): None.

Total Burden Cost (Operating/Maintenance): None.

Comments submitted in response to this notice will be summarized and/or included in the request for Office of Management and Budget approval of the information collection request; they will also become a matter of public record.

Dated: July 12, 2004.
Howard Turner,
Acting Director, AmeriCorps*VISTA.

[FR Doc. 04-16137 Filed 7-15-04; 8:45 am]

BILLING CODE 6050-$$-P